ENVIRONMENTAL PROTECTION AGENCY

40 CFR Part 180

[EPA-HQ-OPP-2007-0766; FRL-8345-4]

RIN 2070-AJ28

Pesticide Tolerance Crop Grouping Program; Technical Amendment

AGENCY: Environmental Protection Agency (EPA).

ACTION: Final rule; technical amendment.

SUMMARY: EPA issued a final rule in the Federal Register of December 7, 2007 (72 FR 69150) (FRL-8343-1), concerning amendments and revisions to the pesticide tolerance crop grouping regulations. This document is being issued to correct an omission in one of the crop grouping tables and to remove unnecessary scientific names from another table.

DATES: This final rule is effective January 2, 2008.

ADDRESSES: EPA has established a docket for this action under docket identification (ID) number EPA-HQ-OPP-2007-0766. To access the electronic docket, go to http://www.regulations.gov, select “Advanced Search,” then “Docket Search.” Insert the docket ID number where indicated and select the “Submit” button. Follow the instructions on the regulations.gov web site to view the docket index or access available documents. All documents in the docket are listed in the docket index available in regulations.gov. Although listed in the index, some information is not publicly available, e.g., Confidential Business Information (CBI) or other information whose disclosure is restricted by statute. Certain other material, such as copyrighted material, is not placed on the Internet and will be publicly available only in hard copy form. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: Rame Cromwell, Office of Pesticide Programs, Environmental Protection Agency, 1200 Pennsylvania Ave., NW., Washington, DC 20460-0001; telephone number: 703-308-9068; fax number:703-305-5884; e-mail address: cromwell.rame@epa.gov.

SUPPLEMENTARY INFORMATION:

I. General Information

A. Does this Action Apply to Me?

The Agency included in the final rule a list of those who may be potentially affected by this action. If you have questions regarding the applicability of this action to a particular entity, consult the person listed under the FOR FURTHER INFORMATION CONTACT.

B. How Can I Access Electronic Copies of this Document and Other Related Information?

In addition to using regulations.gov, you may access this Federal Register document electronically through the EPA Internet under the “Federal Register” listings at http://www.epa.gov/fedrgstr.

II. What Does this Technical Amendment Do?

EPA issued a final rule in the Federal Register of December 7, 2007 (72 FR 69150) (FRL-8343-1), concerning amendments and revisions to the pesticide tolerance crop grouping regulations. This document is being issued to correct an omission in the crop grouping table in § 180.41(c)(15)(ii) for Gooseberry, and to remove unnecessary scientific names from the crop group 21 table in § 180.41(c)(22)(ii).

III. Why is this Technical Amendment Issued as a Final Rule?

Section 553 of the Administrative Procedure Act (APA), 5 U.S.C. 553(b)(B), provides that, when an Agency for good cause finds that notice and public procedure are impracticable, unnecessary or contrary to the public interest, the Agency may issue a final rule without providing notice and an opportunity for public comment. EPA has determined that there is good cause for making today's technical amendment final without prior proposal and opportunity for comment, because this technical amendment merely adds two subgroup numbers which were inadvertently left out to one table, and removes unnecessary scientific nomenclature from another table. This technical amendment does not change the impact of the December 7, 2007 document. EPA finds that this constitutes good cause under 5 U.S.C. 553(b)(B).

IV. Do Any of the Statutory and Executive Order Reviews Apply to this Action?

EPA included the necessary statutory and Executive Order reviews in the December 7, 2007 final rule.

V. Congressional Review Act

The Congressional Review Act, 5 U.S.C. 801 et seq., generally provides that before a rule may take effect, the Agency promulgating the rule must submit a rule report to each House of the Congress and to the Comptroller General of the United States. EPA will submit a report containing this rule and other required information to the U.S. Senate, the U.S. House of Representatives, and the Comptroller General of the United States prior to publication of this final rule in the Federal Register. This final rule is not a “major rule” as defined by 5 U.S.C. 804(2).

List of Subjects in 40 CFR Part 180

Environmental protection, Administrative practice and procedure, Pesticides and pest.

Dated: December 13, 2007.
James Jones,
Acting Assistant Administrator for Prevention, Pesticides, and Toxic Substances.

Therefore, 40 CFR part 180 is amended as follows:

PART 180—[AMENDED]

1. The authority citation for part 180 continues to read as follows:

Authority: 21 U.S.C. 321(q), 346a, and 371.

2. Section 180.41 is amended by revising the entry for “Gooseberry (ribes spp)” in table 1 to paragraph (c)(15)(ii), and by revising the Crop Group 21 table in paragraph (c)(22)(ii) to read as follows:

§ 180.41 Crop group tables.

(c) * * *

(15) * * *

(ii) * * *

TABLE 1.—Crop Group 13-07: Berry and Small Fruit Crop Group
Commodities | Related crop subgroups
* * * * * * *
Gooseberry (Ribes spp.) | 13-07B, 13-07D, 13-07E, 13-07F
* * * * * * *

* * * * *

(22) * * *

(ii) * * *

Crop Group 21.—Edible Fungi Group—Commodities
Blewitt (Lepista nuda)
Bunashimeji (Hypsizygus marrmoreus)
Chinese mushroom (Volvariella volvacea) (Bull.) Singer
Enoki (Flammulina velutipes) (Curt.) Singer
Hime-Matsutake (Agaricus blazei) Murill
Hirmeola (Auricularia auricular)
Maitake (Grifola frondosa)
Morel (Morchella spp.)
Nameko (Pholiota nameko)
Net Bearing (Dictyophora)
Oyster mushroom (Pleurotus spp.)
Pom Pom (Hericium erinaceus)
Reishi mushroom (Ganoderma lucidum (Leyss. Fr.) Karst.)
Rodman's agaricus (Agaricus bitorquis) (Quel.) Saccardo
Shiitake mushroom (Lentinula edodes (Berk.) Pegl.)
Shimeji (Tricholoma conglobatum)
Stropharia (Stropharia spp.)
Truffle (Tuber spp.)
White button mushroom (Agaricus bisporous (Lange) Imbach)
White Jelly Fungi (Tremella fuciformis)

[FR Doc. E7-25280 Filed 12-31-07; 8:45 am]

BILLING CODE 6560-50-S